DEPARTMENT OF ENERGY

Federal Energy Regulatory Commission

[Project No. 1881-054]

PPL Holtwood, LLC; Notice of Application for Amendment of License and Soliciting Comments, Motions To Intervene, and Protests

May 1, 2009.

Take notice that the following hydroelectric application has been filed with the Commission and is available for public inspection:

a. Application Type: Renewed amendment of license to increase the installed capacity.

b. Project No.: 1881-054.

c. Date Filed: April 9, 2009.

d. Applicant: PPL Holtwood, LLC (PPL).

e. Name of Project: Holtwood Hydroelectric Project.

f. Location: The project is located on the Susquehanna River, in Lancaster and York Counties, Pennsylvania.

g. Filed Pursuant to: Federal Power Act, 16 U.S.C. 791a-825r.

h. Applicant Contact: Dennis J. Murphy, Vice President & Chief Operating Officer, PPL Holtwood, LLC, Two North Ninth Street (GENPL6), Allentown, Pennsylvania 18101; telephone (610) 774-4316.

i. FERC Contact: Linda Stewart, telephone (202) 502-6680, and e-mail address linda.stewart@ferc.gov.

j. Deadline for filing comments, motions to intervene, and protests: June 1, 2009.

Comments, protests, and interventions may be filed electronically via the Internet in lieu of paper. See 18 CFR 385.2001(a)(1)(iii) and the instructions on the Commission's Web site (http://www.ferc.gov) under the “e-filing” link. The Commission strongly encourages electronic filings.

All documents (original and eight copies) filed by paper should be sent to: Secretary, Federal Energy Regulatory Commission, 888 First Street, NE., Washington, DC 20426. Please include the project number (P-1881-054) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Background: On December 20, 2007, and supplemented on January 4, February 20, June 19, July 7, August 27, and October 3, 2008, PPL filed an application to amend its license for the Holtwood Project (sub docket P-1881-050). By letter filed December 8, 2008, PPL withdrew its license amendment application. The withdrawal became effective 15 days later, on December 23, 2008.

In its application, PPL proposed to: (1) Construct a new powerhouse and install new turbines that would increase the total installed capacity of the project from 107.2 megawatts (MW) to 195.5 MW; (2) construct a new skimmer wall and larger forebay; (3) reconfigure the existing fish lift, reroute the discharge of Unit 1 in the existing powerhouse, and excavate in the project tailrace and Piney Channel to improve migratory fish passage; (4) provide minimum flows and conduct studies of the effectiveness of the modified fish passage facilities and flow releases; (5) improve existing and construct new recreational facilities; and (6) establish protocols to ensure protection of special status plants, wildlife, and cultural resources during construction.

Because of the substantial costs associated with the proposed modifications, PPL also requested in its license amendment application a 16-year extension of the current license term through August 31, 2030.

l. Description of Request: In its renewed application for amendment of license, PPL requests that the Commission incorporate by reference the record fully developed in the proceeding for the previously withdrawn license amendment application (sub docket P-1881-050).

m. Since Commission staff recently completed the Final Environmental Impact Statement (FEIS) for the Holtwood Project No. 1881-050, we believe the environmental record is complete and are not seeking new recommendations, terms and conditions, or fishway prescriptions for the renewed license amendment application. The fishway prescription previously filed by the U.S. Department of the Interior (Interior), as well as the recommendations previously filed by Interior and the Pennsylvania Fish and Boat Commission were analyzed in the FEIS and will remain as part of the renewed amendment application proceeding.

n. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

o. Individuals desiring to be included on the Commission's mailing list should so indicate by writing to the Secretary of the Commission.

p. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

q. Any entity who intervened in the prior license amendment proceeding (sub docket P-1881-050) need not intervene again.

r. Any filings must bear in all capital letters the title “COMMENTS”, “PROTEST”, or “MOTION TO INTERVENE”, as applicable, and the Project Number of the particular application to which the filing refers.

s. Agency Comments: Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. E9-10699 Filed 5-7-09; 8:45 am]

BILLING CODE P